DEPARTMENT OF DEFENSE

Department of the Navy

Notice of Intent To Grant Exclusive Patent License; Codeon Corporation

AGENCY: Department of the Navy, DOD.

ACTION: Notice.

SUMMARY: The Department of the Navy hereby gives notice of its intent to grant to Codeon Corporation, a revocable, non-assignable, exclusive license to practice in the United States and certain foreign countries, the Government-owned inventions described in U.S. Patent No. 5,195,163 (Navy Case No. 73,281) issued March 16, 1993, entitled “Fabrication and Phase Tuning of an Optical Waveguide Device,” and U.S. Patent No. 5,259,061 (Navy Case No. 75,085) issued November 2, 1993, entitled “Fabrication and Phase Tuning of an Optical Waveguide Device.”

DATES: Anyone wishing to object to the granting of these licenses must file written objections along with supporting evidence, if any, not later than November 13, 2001.

ADDRESSES: Written objections are to be filed with the Naval Research Laboratory, Code 1004, 4555 Overlook Avenue, SW., Washington, DC 20375-5320.

FOR FURTHER INFORMATION CONTACT: Catherine M. Cotell, Ph.D., Head, Technology Transfer Office, NRL Code 1004, 4555 Overlook Avenue, SW., Washington, DC 20375-5320, telephone (202) 767-7230.

(Authority: 35 U.S.C. 207, 37 CFR part 404.)

Dated: August 30, 2001.
Robert E. Vincent II,
Lieutenant Commander, Judge Advocate General's Corps, U.S. Navy, Federal Register Liaison Officer.

[FR Doc. 01-23025 Filed 9-12-01; 8:45 am]

BILLING CODE 3810-FF-P